DEPARTMENT OF ENERGY

Federal Energy Regulatory Commission

[Docket No. RP91-143-051]

Great Lakes Gas Transmission Limited Partnership; Notice of Revenue Sharing Report—November 1999-October 2000

December 19, 2000.

Take notice that on December 14, 2000, Great Lakes Gas Transmission Limited Partnership (Great Lakes) filed its Interruptible/Overrun (I/O) Revenue Sharing Report with the Federal Energy Regulatory Commission (Commission) in accordance with the Stipulation and Agreement (Settlement) filed on September 24, 1992, and approved by the Commission's February 3, 1993 order issued in Document No. RP91-143-000, et al.

Great Lakes states that this report reflects application of the revenue sharing mechanism and revenue sharing amounts determined for remittance to eligible firm shippers for I/O revenue collected for the November 1, 1999 through October 31, 2000 period, in accordance with Article IV of the Settlement.

Great Lakes states that I/O revenue collected for the applicable period did not exceed the threshold level of fixed costs allocated to I/O services. Therefore, revenue subject to sharing was zero. Great Lakes further states that as revenue subject to sharing was zero, it did not make any remittances to eligible firm shippers for I/O Revenue Sharing for the November 1, 1999 through October 31, 2000 period.

Great Lakes states that copies of the report were sent to its firm customers, parties to this proceeding and the Public Service Commissions of Minnesota, Wisconsin and Michigan.

Any person desiring to protest said filing should file a protest with the Federal Energy Regulatory Commission, 888 First Street, NE., Washington, DC 20426, in accordance with section 385.211 of the Commission's Rules and Regulations. All such protests must be filed on or before December 26, 2000. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-32801 Filed 12-22-00; 8:45 am]

BILLING CODE 6717-01-M